ENVIRONMENTAL PROTECTION AGENCY

[EPA-HQ-OPP-2025-0011; FRL-12572-01-OCSPP]

Pesticide Program Dialogue Committee (PPDC); Notice of Public Meeting for June 2025

AGENCY: Environmental Protection Agency (EPA).

ACTION: Notice.

SUMMARY: Pursuant to the Federal Advisory Committee Act (FACA), the Environmental Protection Agency (EPA or Agency) is announcing the date of the Spring 2025 meeting of the Pesticide Program Dialogue Committee (PPDC) on June 17, 2025. This will be a virtual meeting that is open to the public.

DATES: The meeting will be held on June 17, 2025, from approximately 11 a.m. to 5 p.m. Requests to participate in this virtual meeting must be received on or before June 10, 2025.

To request accommodation of a disability, please contact the technical person listed under FOR FURTHER INFORMATON CONTACT at least 10 days prior to the meeting to give EPA as much time as possible to process your request.

ADDRESSES: This meeting will be held virtually. Links to register for the meeting will be available at https://www.epa.gov/pesticide-advisory-committees-and-regulatory-partners/pesticide-program-dialogue-committee-ppdc.

FOR FURTHER INFORMATION CONTACT: Jeffrey Chang, Designated Federal Official (DFO) for the PPDC; telephone number: (202) 566-2213, email address: chang.jeffrey@epa.gov.

SUPPLEMENTARY INFORMATION:

I. General Information

A. Does this action apply to me?

You may be potentially affected by this action if you work in agricultural settings or if you are concerned about implementation of the Federal Insecticide, Fungicide, and Rodenticide Act (FIFRA) (7 U.S.C. 136 et seq.); the Federal Food, Drug, and Cosmetic Act (FFDCA) (21 U.S.C. 301 et seq.); the Pesticide Registration Improvement Act (PRIA) (which amends FIFRA section 33); and the Endangered Species Act (ESA) (16 U.S.C. 1531 et seq.). Potentially affected entities may include but are not limited to: Agricultural workers and farmers; pesticide industry and trade associations; environmental, consumer, and farm worker groups; pesticide users and growers; animal rights groups; pest consultants; state, local, and tribal governments; academia; public health organizations; and the public. If you have questions regarding the applicability of this action to a particular entity, consult the person listed under FOR FURTHER INFORMATION CONTACT.

B. How can I get copies of this document and other related information?

The docket for this action, identified by docket identification (ID) number EPA-HQ-OPP-2025-0011, is available online at https://www.regulations.gov. The docket will also be available in-person at the Office of Pesticide Programs Regulatory Public Docket (OPP Docket) in the EPA/DC, West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744.

For further information on EPA/DC services, docket contact information and the current status of the EPA/DC and Reading Room, please visit https://www.epa.gov/dockets.

The agenda and meeting materials will be available seven calendar days in advance of each meeting at https://www.epa.gov/pesticide-advisory-committees-and-regulatory-partners/pesticide-program-dialogue-committee-ppdc.

II. Background

The PPDC is a federal advisory committee chartered under the Federal Advisory Committee Act (FACA), Public Law 92-463. EPA established the PPDC in September 1995 to provide policy advice, information and recommendations to the EPA Administrator through the Director of the Office of Pesticide Programs, Office of Chemical Safety and Pollution Prevention. The PPDC provides a public forum to discuss a wide variety of pesticide regulatory developments and reform initiatives, evolving public policy and program implementation issues associated with evaluating and risks from the use of pesticides.

III. How can I request to participate in this meeting?

Please visit https://www.epa.gov/pesticide-advisory-committees-and-regulatory-partners/pesticide-program-dialogue-committee-ppdc to find a link to register to attend the meeting. The agenda and meeting materials will be available seven calendar days in advance of the meeting.

Requests to make brief oral comments to the PPDC during the meeting should be submitted to the individual listed under FOR FURTHER INFORMATION CONTACT on or before noon on the date set in the DATES section.

Authority: 5 U.S.C. Appendix 2 et seq. and 7 U.S.C. 136 et seq.

Dated: May 23, 2025.
Edward Messina,
Director, Office of Pesticide Programs.

[FR Doc. 2025-09809 Filed 5-29-25; 8:45 am]

BILLING CODE 6560-50-P